DEPARTMENT OF COMMERCE

Foreign-Trade Zones Board

[B-37-2019]

Foreign-Trade Zone (FTZ) 230—Piedmont Triad Area, North Carolina; Authorization of Production Activity MVP International Group, Inc. (Candles, Reed Diffusers, Wax Melts) Elkin and Boonville, North Carolina

On May 24, 2019, the Piedmont Triad Partnership, grantee of FTZ 230 submitted a notification of proposed production activity to the FTZ Board on behalf of MVP International Group, Inc., within FTZ 230, in Elkin and Boonville, North Carolina.

The notification was processed in accordance with the regulations of the FTZ Board (15 CFR part 400), including notice in the Federal Register inviting public comment (84 FR 25521, June 3, 2019). On September 23, 2019, the applicant was notified of the FTZ Board's decision that no further review of the activity is warranted at this time. The production activity described in the notification was authorized, subject to the FTZ Act and the FTZ Board's regulations, including Section 400.14.

Dated: September 23, 2019.
Andrew McGilvray,
Executive Secretary.

[FR Doc. 2019-21008 Filed 9-26-19; 8:45 am]

BILLING CODE 3510-DS-P